DEPARTMENT OF THE INTERIOR

Bureau of Land Management

[LLAK930000.L16100000.LXSSL0290000.PN0000.20X]

Notice of Intent To Amend the 2007 East Alaska Resource Management Plan and Prepare the Associated Environmental Assessment

AGENCY: Bureau of Land Management, Interior.

ACTION: Notice of Intent.

SUMMARY: In accordance with the National Environmental Policy Act of 1969 (NEPA), as amended; the Federal Land Policy and Management Act of 1976 (FLPMA), as amended; the Alaska National Interest Lands Conservation Act of 1980 (ANILCA), as amended; and the John D. Dingell, Jr. Conservation, Management, and Recreation Act of 2019 (Dingell Act), the Bureau of Land Management (BLM) Glennallen Field Office, Glennallen, Alaska, intends to prepare an Environmental Assessment (EA) for a proposed Amendment to the 2007 East Alaska Resource Management Plan (RMP) to analyze which lands could be made available for one or more land exchanges, as directed in the Dingell Act.

DATES: This notice initiates the public scoping process for the EA and proposed RMP amendment. Comments on relevant issues may be submitted in writing by December 24, 2020. The BLM will conduct virtual public scoping meetings, and the date(s) and location(s) of scoping meetings will be announced at least 15 days in advance through local media, newspapers, and the BLM Alaska website at: www.blm.gov/alaska and through BLM Alaska social media channels.

If required, ANILCA subsistence hearings will be held concurrently with the Draft RMP Amendment/EA public involvement meetings.

ADDRESSES: You may submit comments on issues related to the proposed project by any of the following methods:

• ePlanning Website: [TBD]

• Mail: East Alaska RMP Amendment/EA, 222 W 7th Ave., Stop 13, Anchorage, Alaska 99513

Documents pertinent to this proposal may be examined at the BLM Alaska Public Room, Glennallen Field Office, Mile Post 186.5 Glenn Highway, Glennallen, Alaska 99588; and at the BLM Alaska Public Information Center, Alaska State Office, 222 West 7th Avenue, Anchorage, Alaska 99513.

FOR FURTHER INFORMATION CONTACT: Tina McMaster-Goering, Project Lead; 907-271-1310, tmcmastergoering@blm.gov. Please contact the project lead to be added to the mailing list and receive further information about this project. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The State and Federal governments acquired surface estate and/or conservation easements to nearly 250,000 acres of lands for which Chugach Alaska Corporation owns the subsurface or mineral estate. These acquisitions occurred under the Exxon Valdez Oil Spill Trustee Council (EVOSTC) Habitat Protection and Land Acquisition Program. Pursuant to Sec. 1113 of the Dingell Act, the BLM is to identify “accessible and economically viable Federal land” within the Chugach Region that can be offered in exchange for those lands acquired through the EVOSTC Habitat Acquisition Program. Lands being considered are near Thompson Pass in the vicinity of Valdez, Alaska, and are not identified as available for exchange under the current East Alaska RMP. The proposed amendment to the RMP would analyze making additional lands near Thompson Pass available for potential exchanges in accordance with the Dingell Act. At present, the BLM has identified the following preliminary issues for evaluation in the RMP Amendment/EA: Recreational activities, social and economic impacts, rural and traditional lifestyles, subsistence use and access, public access, wildlife and biological resources, special status species, fish and aquatic species, water, wilderness characteristics, cultural resources and reasonably foreseeable future activities.

The BLM will utilize and coordinate the NEPA scoping process to help fulfill the public involvement process under the National Historic Preservation Act (NHPA), as amended, and as provided in 36 CFR 800.2(d)(3). The information about historic and cultural resources within the area potentially affected by the proposed action will assist the BLM in identifying and evaluating impacts to such resources.

The BLM will offer consultation to potentially affected Federally recognized tribes on a government-to-government basis, and with affected Alaska Native corporations, in accordance with Executive Order 13175 and other policies. Native concerns, including impacts on Indian trust assets and potential impacts to cultural resources, will be given appropriate consideration. Federal, State, and local agencies, along with tribes and other stakeholders that may be interested in or affected by the proposed RMP Amendment/EA, are invited to participate in the scoping process and, if eligible, may request or be asked by the BLM to participate in the development of the RMP Amendment/EA as cooperating agencies.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Chad B. Padgett,
State Director.

[FR Doc. 2020-25958 Filed 11-23-20; 8:45 am]

BILLING CODE 4310-JA-P